DEPARTMENT OF ENERGY

Federal Energy Regulatory Commission

Combined Notice of Filings

Take notice that the Commission has received the following Natural Gas Pipeline Rate and Refund Report filings:

Filings Instituting Proceedings

Docket Numbers: PR26-23-000.

Applicants: Montana-Dakota Utilities Co.

Description: 284.123(g) Rate Filing: Statement of Operating Conditions—Update to be effective 12/1/2025.

Filed Date: 12/30/25.

Accession Number: 20251230-5444.

Comment Date: 5 p.m. ET 1/20/26.

284.123(g) Protest: 5 p.m. ET 3/2/26.

Docket Numbers: RP26-332-000.

Applicants: Gulf Run Transmission, LLC.

Description: 4(d) Rate Filing: Amendment No. 2—NRA with Golden Pass to be effective 1/1/2026.

Filed Date: 12/30/25.

Accession Number: 20251230-5322.

Comment Date: 5 p.m. ET 1/12/26.

Docket Numbers: RP26-333-000.

Applicants: Colorado Interstate Gas Company, L.L.C.

Description: Compliance filing: Totem Enhanced Deliverability Implementation Filing in Docket No. CP24-124-000 to be effective 2/1/2026.

Filed Date: 12/30/25.

Accession Number: 20251230-5351.

Comment Date: 5 p.m. ET 1/12/26.

Docket Numbers: RP26-334-000.

Applicants: El Paso Natural Gas Company, L.L.C.

Description: 4(d) Rate Filing: Non-Conforming Agreements Update (SWG 2026) to be effective 1/1/2026.

Filed Date: 12/30/25.

Accession Number: 20251230-5389.

Comment Date: 5 p.m. ET 1/12/26.

Docket Numbers: RP26-335-000.

Applicants: El Paso Natural Gas Company, L.L.C.

Description: 4(d) Rate Filing: Negotiated Rate Agreements Update (Pioneer Feb 2026) to be effective 2/1/2026.

Filed Date: 12/30/25.

Accession Number: 20251230-5396.

Comment Date: 5 p.m. ET 1/12/26.

Docket Numbers: RP26-336-000.

Applicants: Columbia Gas Transmission, LLC.

Description: 4(d) Rate Filing: Negotiated Rate Amendment—Celanese 151487 Eff 1.1.26 to be effective 1/1/2026.

Filed Date: 12/31/25.

Accession Number: 20251231-5116.

Comment Date: 5 p.m. ET 1/12/26.

Docket Numbers: RP26-337-000.

Applicants: Maritimes & Northeast Pipeline, L.L.C.

Description: 4(d) Rate Filing: Negotiated Rates—Northern to Emera 3370 eff 1-1-26 to be effective 1/1/2026.

Filed Date: 12/31/25.

Accession Number: 20251231-5123.

Comment Date: 5 p.m. ET 1/12/26.

Docket Numbers: RP26-338-000.

Applicants: ANR Pipeline Company.

Description: 4(d) Rate Filing: ANR—NR Castleton 336049, Eff 1.1.26 to be effective 1/1/2026.

Filed Date: 12/31/25.

Accession Number: 20251231-5143.

Comment Date: 5 p.m. ET 1/12/26.

Docket Numbers: RP26-339-000.

Applicants: Trailblazer Pipeline Company LLC.

Description: 4(d) Rate Filing: TPC 2025-12-31 NGA Section 4 Rate Case to be effective 2/1/2026.

Filed Date: 12/31/25.

Accession Number: 20251231-5171.

Comment Date: 5 p.m. ET 1/12/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-989-004.

Applicants: Northern Natural Gas Company.

Description: Compliance filing: 20251230 Motion Adjusted Base Case Rates to be effective 1/1/2026.

Filed Date: 12/30/25.

Accession Number: 20251230-5388.

Comment Date: 5 p.m. ET 1/12/26.

Docket Numbers: RP25-989-005.

Applicants: Northern Natural Gas Company.

Description: Compliance filing: 20251230 Interim Rates to be effective 1/1/2026.

Filed Date: 12/30/25.

Accession Number: 20251230-5409.

Comment Date: 5 p.m. ET 1/12/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 31, 2025.
Carlos D. Clay,
Deputy Secretary.

[FR Doc. 2026-00013 Filed 1-5-26; 8:45 am]

BILLING CODE 6717-01-P